DEPARTMENT OF ENERGY

Federal Energy Regulatory Commission

[Project No. 13641-000]

Pacific Gas and Electric Company; Notice of Preliminary Permit Application Accepted for Filing and Soliciting Comments, Motions To Intervene, and Competing Applications

December 17, 2009.

On December 11, 2009, Pacific Gas and Electric Company filed an application for a preliminary permit, pursuant to section 4(f) of the Federal Power Act, proposing to study the feasibility of the Central Coast WaveConnect Project, multiple wave energy conversion devices with an installed capacity of up to 100-megawatthours. The requested project boundary comprises approximately 45 square miles of coastal waters, located off the coast of Santa Barbara County, California.

The sole purpose of a preliminary permit, if issued, is to grant the permit holder priority to file a license application during the permit term. A preliminary permit does not authorize the permit holder to perform any land disturbing activities or otherwise enter upon lands or waters owned by others without the owners' express permission.

Applicant Contact: Mr. Steven E. Malnight; Vice President—Renewable Energy; Pacific Gas and Electric Company; P.O. Box 770000, MC- N13R-1362; San Francisco, CA 94177-0001; or Annette Faraglia, Esq.; Pacific Gas and Electric Company; Law Department; P.O. Box 7442, MC B30A-2479; San Francisco, CA 94120-7442.

FERC Contact: Kenneth Hogan, (202) 502-8434, or via e-mail at: Kenneth.hogan@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13641) in the docket number field to access the document. For assistance, contact FERC Online Support.

Kimberly D. Bose,
Secretary.

[FR Doc. E9-30579 Filed 12-23-09; 8:45 am]

BILLING CODE 6717-01-P